FEDERAL COMMUNICATIONS COMMISSION

47 CFR Parts 73 and 74

[GN Docket No. 16-142; DA 25-761; FR ID 310636]

Authorizing Permissive Use of the “Next Generation” Broadcast Television Standard

AGENCY: Federal Communications Commission.

ACTION: Final rule.

SUMMARY: In this document, the Media Bureau of the Federal Communications Commission (FCC or Commission) released an Order that re-codifies language that was inadvertently eliminated from the Commission's rules relating to information that must be provided by Next Gen TV broadcast stations in “non-expedited” applications for ATSC 3.0 service. This Order does not change any regulatory obligations.

DATES: Effective September 5, 2025.

FOR FURTHER INFORMATION CONTACT: Evan Baranoff, Evan.Baranoff@fcc.gov, of the Media Bureau, Policy Division, (202) 418-7142.

SUPPLEMENTARY INFORMATION: This is a summary of the Commission's Order, DA 25-761, adopted and released on Aug. 27, 2025. The full text of this document is available electronically via the FCC's website at https://docs.fcc.gov/public/attachments/DA-25-761A1.pdf or via the FCC's Electronic Comment Filing System (ECFS) website at https://www.fcc.gov/ecfs. (Documents will be available electronically in ASCII, Microsoft Word, and/or Adobe Acrobat.) Alternative formats are available for people with disabilities (Braille, large print, electronic files, audio format), by sending an email to fcc504@fcc.gov or calling the Commission's Consumer and Governmental Affairs Bureau at (202) 418-0530 (voice), (202) 418-0432 (TTY).

Synopsis

I. Introduction

1. In this Order, we re-codify language that was inadvertently eliminated from §§ 73.3801(f)(6)(iii), 73.6029(f)(6)(iii), and 74.782(g)(6)(iii) of the Commission's rules (Rules) relating to information that must be provided in “non-expedited” applications for ATSC 3.0 service. This amendment to the Rules does not change any regulatory obligations.

II. Background

2. In the Next Gen TV First Report and Order, 83 FR 4998 (Feb. 2, 2018), the Commission authorized television broadcasters to use the Next Gen TV transmission standard, also called ATSC 3.0, on a voluntary, market-driven basis. The Commission established a process for considering applications to deploy ATSC 3.0 service, which includes coverage requirements for a Next Gen TV station's ATSC 1.0 simulcast signal. As part of that process, the Commission affords expedited processing and a presumption in favor of grant to applications that provide ATSC 1.0 simulcast service to at least 95 percent of the predicted population within the station's original noise limited service contour (NLSC), while applicants that do not satisfy this threshold must provide a more robust public interest showing with their application and will be considered on a case-by-case basis. The required information that must be contained in applications that do not qualify for expedited processing (i.e., “non-expedited” applications) was set forth in §§ 73.3801(f)(6)(iii), 73.6029(f)(6)(iii), and 74.782(g)(6)(iii) of the Rules.

3. Subsequently, in the Next Gen TV Third Report and Order, 88 FR 45347 (Jul. 17, 2023), the Commission modified its ATSC 3.0 rules to, among other things, permit Next Gen TV stations to license multicast streams aired over an ATSC 1.0 multicast host. The Commission also made updates to the required information for ATSC 3.0 applications in §§ 73.3801(f)(6)(i) and (ii), 73.6029(f)(6)(i) and (ii), and 74.782(g)(6)(i) and (ii) of the Commission's rules in order to facilitate multicast licensing, but it did not make changes to the requirements for non-expedited applicants set forth in §§ 73.3801(f)(6)(iii), 73.6029(f)(6)(iii), and 74.782(g)(6)(iii). However, after Federal Register publication of the Next Gen TV Third Report and Order, these subsections were removed from the Code of Federal Regulations.

III. Discussion

4. We find that the deletion of §§ 73.3801(f)(6)(iii), 73.6029(f)(6)(iii), and 74.782(g)(6)(iii) of the Commission's rules from the Code of Federal Regulations was inadvertent, and, thus, re-codify this language. The Next Gen TV First Report and Order codified these provisions to provide clarity about the information that must be provided by non-expedited applicants for ATSC 3.0 service. The Commission never stated or implied in the Next Gen TV Third Report and Order that it intended to rescind these subsections. As noted above, the Next Gen TV Third Report and Order specifically referred to these provisions as remaining applicable. Accordingly, we amend the Rules as set out in the Appendix by including the inadvertently deleted subsections that set forth the required information non-expedited applications must include to show that such applications are in the public interest.

5. We find that notice and comment procedures are unnecessary under the “good cause” exception of the Administrative Procedure Act (APA) because re-codifying the inadvertently deleted subsections merely restores the provisions setting forth the showing that must be made by non-expedited applicants that the Commission adopted in the Next Gen TV First Report and Order. The Commission did not state or imply that it intended to change or eliminate §§ 73.3801(f)(6)(iii), 73.6029(f)(6)(iii), and 74.782(g)(6)(iii) in the Next Gen TV Third Report and Order. Consequently, we find notice and comment procedures are unnecessary for this action.

6. We also conclude that good cause exists to make this change effective immediately upon publication in the Federal Register, pursuant to section 553(d)(3) of the Administrative Procedure Act. An expedited effective date is necessary to restore the rule in the Code of Federal Regulations as originally adopted by the Commission, which included codified provisions informing non-expedited applicants of the existing requirements for information that must be included in non-expedited applications and to allow the Bureau to promptly act upon such requests. Failure to make the rule change effective immediately may result in confusion among regulated entities as to the required showing and thereby impact the Bureau's ability to determine if applications are in the public interest, and thereby delay broadcasters' ability to commence ATSC 3.0 operation and provide new, innovative services to the public.

IV. Procedural Matters

7. Regulatory Flexibility Act. Because these rule changes are being adopted without notice and comment, the Regulatory Flexibility Act, 5 U.S.C. 601 et seq., does not apply.

8. Paperwork Reduction Act. This document does not contain new or modified information collection requirements subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

9. Congressional Review Act. The Bureau has determined, and the Administrator of the Office of Information and Regulatory Affairs, Office of Management and Budget, concurs that this rule is non-major under the Congressional Review Act, 5 U.S.C. 804(2). The Bureau will send a copy of this Order to Congress and the Government Accountability Office pursuant to the Congressional Review Act.

V. Ordering Clauses

10. It is ordered that, pursuant to the authority contained in sections 1, 4, 5(c)(1), 7, 301, 303 of the Communications Act of 1934, as amended, 47 U.S.C. 151, 154, 155(c)(1), 157, 301, 303, and 47 CFR 0.61, 0.283, this Order is adopted and will become effective immediately upon publication in the Federal Register.

11. It is further ordered that parts 73 and 74 of the Commission's rules are hereby amended as set forth in the Appendix, effective immediately upon publication in the Federal Register.

12. It is further ordered that the Bureau shall send a copy of this Order in a report to be sent to Congress and the Government Accountability Office pursuant to the Congressional Review Act, see 5 U.S.C. 801(a)(1)(A).

List of Subjects in 47 CFR Parts 73 and 74

Communications equipment, Television.

Federal Communications Commission.
Thomas Horan,
Chief of Staff, Media Bureau.

Final Rules

For the reasons discussed in the preamble, the Federal Communications Commission amends 47 CFR parts 73 and 74 as follows:

PART 73—RADIO BROADCAST SERVICES

1. The authority citation for part 73 continues to read as follows:

Authority: 47 U.S.C. 154, 155, 301, 303, 307, 309, 310, 334, 336, 339.

2. Section 73.3801 is amended by adding paragraph (f)(6)(iii) to read as follows:

§ 73.3801 Full power television simulcasting during the ATSC 3.0 (Next Gen TV) transition.

* * * * *

(f) * * *

(6) * * *

(iii) If an application in paragraph (f)(2) of this section includes a request to air an ATSC 1.0 signal on the facilities of a host station and does not meet the 95 percent standard in paragraph (f)(6)(ii) of this section, the application must contain, in addition to the information in paragraphs (f)(6)(i) and (ii) of this section, the following information:

(A) Whether there is another possible host station(s) in the market that would result in less service loss to existing viewers and, if so, why the Next Gen TV broadcaster chose to partner with a host station creating a larger service loss;

(B) What steps, if any, the station plans to take to minimize the impact of the service loss (e.g., providing ATSC 3.0 dongles, set-top boxes, or gateway devices to viewers in the loss area); and

(C) The public interest benefits of the simulcasting arrangement and a showing of why the benefit(s) of granting the application would outweigh the harm(s). These applications will be considered on a case-by-case basis.

* * * * *

3. Section 73.6029 is amended by adding paragraph (f)(6)(iii) to read as follows:

§ 73.6029 Class A television simulcasting during the ATSC 3.0 (Next Gen TV) transition.

* * * * *

(f) * * *

(6) * * *

(iii) If an application in paragraph (f)(2) of this section includes a request to air an ATSC 1.0 signal on the facilities of a host station and does not meet the 95 percent standard in paragraph (f)(6)(ii) of this section, the application must contain, in addition to the information in paragraphs (f)(6)(i) and (ii) of this section, the following information:

(A) Whether there is another possible host station(s) in the market that would result in less service loss to existing viewers and, if so, why the Next Gen TV broadcaster chose to partner with a host station creating a larger service loss;

(B) What steps, if any, the station plans to take to minimize the impact of the service loss (e.g., providing ATSC 3.0 dongles, set-top boxes, or gateway devices to viewers in the loss area); and

(C) The public interest benefits of the simulcasting arrangement and a showing of why the benefit(s) of granting the application would outweigh the harm(s). These applications will be considered on a case-by-case basis.

* * * * *

PART 74—EXPERIMENTAL RADIO, AUXILIARY, SPECIAL BROADCAST AND OTHER PROGRAM DISTRIBUTIONAL SERVICES

4. The authority citation for part 73 continues to read as follows:

Authority: 47 U.S.C. 154, 302a, 303, 307, 309, 310, 325, 336 and 554.

5. Section 74.782 is amended by adding paragraph (g)(6)(iii) to read as follows:

§ 74.782 Low power television and TV translator simulcasting during the ATSC 3.0 (Next Gen TV) transition.

* * * * *

(g) * * *

(6) * * *

(iii) If an application in paragraph (g)(2) of this section includes a request to air an ATSC 1.0 signal on the facilities of a host station and does not meet the 95 percent standard in paragraph (g)(6)(ii) of this section, the application must contain, in addition to the information in paragraphs (g)(6)(i) and (ii) of this section, the following information:

(A) Whether there is another possible host station(s) in the market that would result in less service loss to existing viewers and, if so, why the Next Gen TV broadcaster chose to partner with a host station creating a larger service loss;

(B) What steps, if any, the station plans to take to minimize the impact of the service loss (e.g., providing ATSC 3.0 dongles, set-top boxes, or gateway devices to viewers in the loss area); and

(C) The public interest benefits of the simulcasting arrangement and a showing of why the benefit(s) of granting the application would outweigh the harm(s). These applications will be considered on a case-by-case basis.

* * * * *

[FR Doc. 2025-16990 Filed 9-4-25; 8:45 am]

BILLING CODE 6712-01-P